DEPARTMENT OF THE INTERIOR

National Park Service

National Register of Historic Places; Notification of Pending Nominations and Related Actions

Nominations for the following properties being considered for listing or related actions in the National Register were received by the National Park Service before July 24, 2010. Pursuant to section 60.13 of 36 CFR part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service, 1201 Eye St., NW., 8th Floor, Washington, DC 20005; or by fax, 202-371-6447. Written or faxed comments should be submitted by August 30, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

IOWA

Clinton County

St. Irenaeus Church, 2811 N 2nd St., Clinton, 96001589

MICHIGAN

Genesee County

Glenwood Cemetery, 2500 W Court St., Flint, 10000616

Menominee County

Janson, Charles G., Garage, 524 10th Ave, Menominee, 10000615

Wayne County

Arthur, Clara B., School, (Public Schools of Detroit MPS) 10125 King Richard Ave, Detroit, 10000634

Atkinson, Edmund, School, (Public Schools of Detroit MPS) 4900 E Hildale Ave, Detroit, 10000635

Bagley, John J., School, (Public Schools of Detroit MPS) 8100 Curtis St., Detroit, 10000636

Balch, George Washington, School, (Public Schools of Detroit MPS) 5536 St. Antoine St., Detroit, 10000637

Barton, Clara, School, (Public Schools of Detroit MPS) 8530 Joy Rd, Detroit, 10000638

Brady, George Newton, School, (Public Schools of Detroit MPS) 2920 Joy Rd, Detroit, 10000639

Burbank, Luther, School, (Public Schools of Detroit MPS) 15600 E State Fair St., Detroit, 10000640

Burton, Clarence M., School, (Public Schools of Detroit MPS) 3420 Cass Ave, Detroit, 10000641

Carleton, Will, School, (Public Schools of Detroit MPS) 11724 Casino St., Detroit, 10000642

Carstens, Hattie M., School, (Public Schools of Detroit MPS) 2592 Coplin St., Detroit, 10000643

Cass, Lewis, Technical High School, (Public Schools of Detroit MPS) 2421 Second Ave, Detroit, 10000644

Cerveny, Edward, School, (Public Schools of Detroit MPS) 15850 Strathmoor Ave, Detroit, 10000645

Chaney, Henry A., School, (Public Schools of Detroit MPS) 2750 Selden St., Detroit, 10000646

Cleveland, Elizabeth, Intermediate School, (Public Schools of Detroit MPS) 13322 Conant St., Detroit, 10000648

Clinton, DeWitt, School, (Public Schools of Detroit MPS) 8145 Chalfonte St., Detroit, 10000647

Columbus, Christopher, School, (Public Schools of Detroit MPS) 18025 Brock St., Detroit, 10000649

Cooley, Thomas M., High School, (Public Schools of Detroit MPS) 15055 Hubbell Ave, Detroit, 10000651

Crary, Isaac, School, (Public Schools of Detroit MPS) 16164 Asbury Park, Detroit, 10000650

Crossman, Caroline, School, (Public Schools of Detroit MPS) 9027 John C. Lodge HWY, Detroit, 10000653

Custer, General George A., School, (Public Schools of Detroit MPS) 15531 Linwood St., Detroit, 10000652

Doty, Duane, School, (Public Schools of Detroit MPS) 10225 3rd St., Detroit, 10000654

Dow, Alex, Intermediate School, (Public Schools of Detroit MPS) 19900 McIntyre St., Detroit, 10000656

Duffield, D. Bethune, School, (Public Schools of Detroit MPS) 2715 Macomb St., Detroit, 10000655

Everett, Edward, School, (Public Schools of Detroit MPS) 18445 Cathedral St., Detroit, 10000657

Finney, Jared W., School and George H. Cannon Community Center, (Public Schools of Detroit MPS) 17200 Southampton St., Detroit, 10000658

Fitzgerald, Ella, and Loren M. Post Intermediate School Complex, (Public Schools of Detroit MPS) 8145 Puritan and 8200 Midland Ave, Detroit, 10000659

Ford, Henry, High School, (Public Schools of Detroit MPS) 20000 Evergreen Rd, Detroit, 10000660

Grayling School, (Public Schools of Detroit MPS) 744 W Adeline St., Detroit, 10000661

Greenfield Union School, (Public Schools of Detroit MPS) 420 W 7 Mile Rd, Detroit, 10000662

Guyton, Joseph W., School, (Public Schools of Detroit MPS) 355 Philip St., Detroit, 10000663

Halley, P. J. M., Magnet Middle School, (Public Schools of Detroit MPS) 2585 Grove Ave, Detroit, 10000664

Hamilton, Alexander, School, (Public Schools of Detroit MPS) 14223 Southampton St., Detroit, 10000665

Hampton, Emma Stark, School, (Public Schools of Detroit MPS) 3901 Margareta Ave, Detroit, 10000666

Hanstein, Frederick A., School, (Public Schools of Detroit MPS) 4290 Marseilles St., Detroit, 10000667

Harding, Warren G., and Dr. E. L. Shurly School Complex, (Public Schools of Detroit MPS) 14450 Burt Rd; 20830 Acacia Ave, Detroit, 10000668

Harms, Theodore, School, (Public Schools of Detroit MPS) 1400 Central Ave, Detroit, 10000669

Herman, S. James, School, (Public Schools of Detroit MPS) 16400 Tireman St., Detroit, 10000670

Higginbotham, William E., School, (Public Schools of Detroit MPS) 20119 Wisconsin St., Detroit, 10000671

Holcomb, Samuel B., School, (Public Schools of Detroit MPS) 18100 Bentler St., Detroit, 10000672

Hutchins, Harry B., Intermediate School, (Public Schools of Detroit MPS) 8820 Woodrow Wilson Ave, Detroit, 10000673

Jackson, Andrew, Intermediate School, (Public Schools of Detroit MPS) 4180 Marlborough St., Detroit, 10000674

Joyce, Anna M., Junior High and Levi T. Barbour Intermediate School Complex, (Public Schools of Detroit MPS) 8425 Sylvester St. and 4209 Seneca St., Detroit, 10000675

Kosciusko, Thaddeus, School, (Public Schools of Detroit MPS) 20220 Tireman St., Detroit, 10000676

Larned, Abner E., School, (Public Schools of Detroit MPS) 23700 Clarita Ave, Detroit, 10000677

Lynch, John, School, (Public Schools of Detroit MPS) 7601 Palmetto St., Detroit, 10000678

MacCulloch, Margaret, School, (Public Schools of Detroit MPS) 13120 Wildemere Ave, Detroit, 10000679

MacDowell, Edward, School, (Public Schools of Detroit MPS) 4021 W Outer Dr, Detroit, 10000680

Mackenzie, David L., High School, (Public Schools of Detroit MPS) 9275 Wyoming St., Detroit, 10000681

Macomb, Alexander, School, (Public Schools of Detroit MPS) 12021 Evanston St., Detroit, 10000682

Marshall, John C., School, (Public Schools of Detroit MPS) 1225 E State Fair St., Detroit, 10000683

Maybury, William C., School, (Public Schools of Detroit MPS) 4410 Porter St., Detroit, 10000684

McColl, Jay R., School, (Public Schools of Detroit MPS) 20550 Cathedral St., Detroit, 10000685

McKerrow, Helen W., School, (Public Schools of Detroit MPS) 4800 Collingwood St., Detroit, 10000686

McKinstry School, (Public Schools of Detroit MPS) 1981 McKinstry St., Detroit, 10000687

Mettetal, Eugenia, School, (Public Library Facilities of Wisconsin MPS) 19355 Edinborough Rd, Detroit, 10000688

Miller, Sidney D., Junior High and High School, (Public Schools of Detroit MPS) 2322 DuBois St., Detroit, 10000689

Mumford, Samuel C., High School, (Public Schools of Detroit MPS) 17525 Wyoming Ave, Detroit, 10000690

Munger, Louise Emma, Intermediate and Charles E. Chadsey High Schools Complex, (Public Schools of Detroit MPS) 5525-5535 Martin Ave, Detroit, 10000691

Neinas, Frank C., School, (Public Schools of Detroit MPS) 6021 McMillan St., Detroit, 10000692

Noble, Edna Chaffee, School, (Public Schools of Detroit MPS) 8646 Fullerton Ave, Detroit, 10000693

Nolan, Benjamin A., School, (Public Schools of Detroit MPS) 1150 E Lantz St., Detroit, 10000694

North Strathmore—Robert Burns School, (Public Schools of Detroit MPS) 14350 Terry St., Detroit, 10000695

Northern High School, (Public Schools of Detroit MPS) 9026 Woodward Ave, Detroit, 10000696

Oakman, Dr. Charles H., School for Crippled Children, (Public Schools of Detroit MPS) 12920 Wadsworth St., Detroit, 10000697

Parkman, Francis, School, (Public Schools of Detroit MPS) 15000 MacKenzie St., Detroit, 10000698

Pershing, John J., High School, (Public Schools of Detroit MPS) 18875 Ryan Rd, Detroit, 10000699

Pitcher, Zina, School, (Public Schools of Detroit MPS) 19799 Stahelin Ave, Detroit, 10000700

Ruddiman, William, School, (Public Schools of Detroit MPS) 7350 Southfield Fwy, Detroit, 10000705

Redford High School, (Public Schools of Detroit MPS) 21431 Grand River Ave, Detroit, 10000701

Richard, Gabriel, School, (Public Schools of Detroit MPS) 13840 Lappin St., Detroit, 10000702

Roosevelt Group of Schools, (Public Schools of Detroit MPS) 2425 Tuxedo St. and 2470 Collingwood St., Detroit, 10000703

Rose, M. M., School, (Public Schools of Detroit MPS) 5505 Van Dyke St., Detroit, 10000704

Ruthruff, William, School, (Public Schools of Detroit MPS) 6311 W Chicago St., Detroit, 10000706

Sampson, William T., School, (Public Schools of Detroit MPS) 6075 Begole St., Detroit, 10000707

Sherrill, Edwin S., School, (Public Schools of Detroit MPS) 7300 Garden St., Detroit, 10000708

Southeastern High and Ferdinand Foch Intermediate School Complex, (Public Schools of Detroit MPS) 2932-3030 Fairview St., Detroit, 10000709

Stellwagen, Augustus C., School, (Public Schools of Detroit MPS) 11450 E Outer Dr, Detroit, 10000710

Stephens, Albert L., School, (Public Schools of Detroit MPS) 6006 Seneca St., Detroit, 10000711

Thirkell, Isabel F., School, (Public Schools of Detroit MPS) 7724 14th St., Detroit, 10000712

Van Steuben, Frederick William, School, (Public Schools of Detroit MPS) 12300 Linnhurst St., Detroit, 10000714

Vernor, James, School, (Public Schools of Detroit MPS) 13726 Pembroke Ave, Detroit, 10000713

Wayne, Anthony, School, (Public Schools of Detroit MPS) 10633 Courville Ave, Detroit, 10000715

Western High School, (Public Schools of Detroit MPS) 1500 Scotten St., Detroit, 10000716

White, Katherine B., School, (Public Schools of Detroit MPS) 5161 Charles St., Detroit, 10000717

Wingert, Fannie E., School, (Public Schools of Detroit MPS) 1851 W Grand Blvd, Detroit, 10000718

Winterhalter, Albert G., School, (Public Schools of Detroit MPS) 12121 Broadstreet Ave, Detroit, 10000719

MONTANA

Flathead County

Kalispell Main Street Historic District Addendum and Boundary Increase, (Kalispell MPS) Roughly bounded by Center St. to N, 5th St. to the S, and the N and N running alleys to the E of Main St., Kalispell, 10000633

NEBRASKA

Lancaster County

Park Hill, 1913 S 41St. St., Lincoln, 10000628

Sheridan County

Spade Ranch Store, W Side of SHWY 27/Lot 5 of Ellsworth, Ellsworth, 10000629

NORTH CAROLINA

Cleveland County

WeSt. End Historic District, Bounded by W Mountain St., W Gold St., S Cansler St., S Tracy St., S Watterson St., and S Goforth St., Kings Mountain, 10000630

Durham County

Burch Avenue Historic District, (Durham MRA) Roughly bounded by S Buchanan Blvd, W Chapel Hill St., Duke University Rd, Burch Ave, and Rome Ave, Durham, 10000631

Wake County

Madonna Acres Historic District, (Post.-World War II and Modern Architecture in Raleigh, North Carolina, 1945-1965) Delany Dr, Dillon, Summerville, and Tierney Circles, Raleigh, 10000632

OKLAHOMA

Cherokee County

American Baptist Home Mission House, 530 Summit St., Tahlequah, 10000621

Grant County

Pond Creek Masonic Lodge #125, 126 Broadway Ave, Pond Creek, 10000622

Kay County

Wentz Camp, Intersection of L.A. Cann Dr and E. Prospect Ave., Ponca City, 10000620

Latimer County

Administration Building, 831 SE 172 Rd, Wilburton, 10000626

Major County

First United Methodist Church, 118 N 7th, Fairview, 10000624

Nowata County

Moore Ranch, 6 mi W of Nowata on N4070 Rd, Oklahoma, 10000617

Payne County

White Cloud Lodge, 820 E 146th, Perkins, 10000619

Pottawatomie County

Squirrel Creek Bridge, Carries Rangeline Rd over Squirrel Creek, Shawnee, 10000625

Tulsa County

Brady Historic District, Roughly along E/W Cameron and E/W Archer, from N Boulder to N Detroit, Tulsa, 10000618

Morrow Home Place, 13200 E 126th St. N, Collinsville, 10000627

Woods County

Nickel Ensor McClure House, 1301 Locust, Alva, 10000623

[FR Doc. 2010-20088 Filed 8-12-10; 8:45 am]

BILLING CODE P